DEPARTMENT OF AGRICULTURE

Food and Nutrition Service

Agency Information Collection Activities: Proposed Collection; Comment Request—Senior Farmers' Market Nutrition Program (SFMNP): Data Collection Requirements

AGENCY: Food and Nutrition Service, USDA.

ACTION: Notice.

SUMMARY: In accordance with the Paperwork Reduction Act of 1995, the Food and Nutrition Service (FNS) invites the general public and other public agencies to provide input on a proposed information collection as set forth in the Proposed Rulemaking entitled “Senior Farmers' Market Nutrition Program” (SFMNP) that was published in the Federal Register on May 26, 2005. The comment period is open to provide State agencies, local governments, and non-profit organizations the opportunity to comment on the data collection burden.

DATES: Written comments must be received on or before September 11, 2006.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

FNS invites interested persons to submit comments on this notice. Comments may be submitted by any of the following methods:

• Mail: Send comments to Debra R. Whitford, Chief, Policy and Program Development Branch, Supplemental Food Programs Division, Food and Nutrition Service, U.S. Department of Agriculture, 3101 Park Center Drive, Room 528, Alexandria, Virginia 22302.

• Web site: Go to http://www.fns.usda.gov/wic. Follow the online instructions for submitting comments through the link at the Supplemental Food Programs Division Web site.

• E-Mail: Send comments to WICHQ-SFPD@fns.usda.gov. Include Docket Number and title in the subject line of the message.

• Federal eRulemaking Portal: Go to http://www.regulations.gov. Follow the online instructions for submitting comments.

In all cases, including when comments are sent via e-mail, please label your comments as “Proposed Collection of Information: Senior Farmers' Market Nutrition Program.”

All written comments will be open for public inspection at the office of the Food and Nutrition Service during regular business hours (8:30 a.m. to 5 p.m. Monday through Friday) at 3101 Park Center Drive, Room 522, Alexandria, Virginia 22302.

All responses to this notice will be summarized and included in the request for OMB approval. All comments will be a matter of public record.

FOR FURTHER INFORMATION CONTACT: Requests for additional information or copies of this information should be directed to Debra R. Whitford at the address indicated above or at (703) 305-2746.

SUPPLEMENTARY INFORMATION:

Title: Senior Farmers' Market Nutrition Program.

OMB Number: To be assigned.

Expiration Date: 3 years from date of approval.

Type of Request: New Information Collection.

Abstract: The Farm Security and Rural Investment Act of 2002 (Pub. L. 107-171, also known as the Farm Bill) gives the Department of Agriculture the authority to promulgate regulations for the operation and administration of the Senior Farmers' Market Nutrition Program (SFMNP). The purposes of the SFMNP are to provide resources in the form of fresh, nutritious, unprepared, locally grown fruits, vegetables, and herbs from farmers' markets, roadside stands, and community supported agriculture (CSA) programs to low-income seniors; to increase the domestic consumption of agricultural commodities by expanding or aiding in the expansion of domestic farmers' markets, roadside stands, and CSA programs; and to develop or aid in the development of new and additional farmers' markets, roadside stands, and CSA programs.

Such requirements include, but are not limited to, financial information used to reconcile and close out SFMNP grants, submission of annual State Plans of Operation that describe in detail the operation and administration of the SFMNP at the State and local levels, local agency and authorized outlet (farmer, farmers' market, roadside stand, and/or community supported agriculture (CSA) program) applications and agreements, racial/ethnic participation data for all program participants, State agency nutrition education agreements, and State agency corrective action plans. FNS will use the collection of this information to assess how each State agency operates and to ensure the accountability of State agencies, local agencies, and authorized farmers/farmers' markets, roadside stands, and CSA programs in administering the SFMNP.

USDA published a proposed rulemaking on the SFMNP on May 26, 2005, that contained an estimated information collection burden based on the proposed rule's requirements for program operation and administration. The Department is now soliciting comments on the accuracy and reasonableness of this estimated burden, prior to publication of a final SFMNP rulemaking.

Burden Estimate

1. Reporting

Estimated Number of Respondents: 904,088.

Respondents include State agencies, local agencies, recipients, and authorized SFMNP outlets ( farmers, farmers' markets, roadside stands, and CSA programs).

Estimated Average Number of Responses per Respondent: 1.

Estimated Time per Response: 0.2601 hours.

Estimated Total Annual Burden on Respondents: 235,153 hours.

2. Recordkeeping

Estimated Number of Recordkeepings: 900,235.

Respondents include State and local agencies.

Estimated Average Number of Recordkeepings per Respondent: 1.

Estimated Time per Recordkeeping: 0.25 hours.

Estimated Total Annual Burden on Respondents: 227,209 hours.

Total Annual Reporting/Recordkeeping Requirements: 462,362 hours.

Dated: July 6, 2006.
Roberto Salazar,
Administrator, Food and Nutrition Service.

[FR Doc. E6-10960 Filed 7-11-06; 8:45 am]

BILLING CODE 3410-30-P